DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative review of various antidumping and countervailing duty orders and findings with February anniversary dates. In accordance with the Department's regulations, we are initiating those administrative reviews. The Department of Commerce also received requests to revoke two antidumping duty orders and three countervailing duty orders in part.

DATES: Effective Date: March 23, 2005.

FOR FURTHER INFORMATION CONTACT: Holly A. Kuga, Office of AD/CVD Operations, Office 4, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2004), for administrative reviews of various antidumping and countervailing duty orders and findings with February anniversary dates. The Department also received timely requests to revoke in part the antidumping duty orders on Stainless Steel Bar and Stainless Steel Flanges from India and the countervailing duty orders on Low Enriched Uranium from Germany, the Netherlands and the United Kingdom.

Initiation of Reviews

In accordance with section 19 CFR 351.221(c)(1)(i), we are initiating administrative reviews of the following antidumping and countervailing duty orders and findings. We intend to issue the final results of these reviews not later than February 28, 2006.

| Period to be reviewed
Antidumping Duty Proceedings
France: Low Enriched Uranium, A-427-818 | 2/1/04-1/31/05
Eurodif S.A./COGEMA
India: Certain Preserved Mushrooms, A-533-813 | 2/1/04-1/31/05
Agro Dutch Industries, Ltd.
Alpine Biotech Ltd.
Dinesh Agro Products, Ltd.
Flex Foods, Ltd.
Himalaya International, Ltd.
KICM (Madras) Ltd.¹
Mandeep Mushrooms Ltd.
Premier Mushroom Farms
Saptarishi Agro Industries, Ltd.
Transchem Ltd.
Techtran Agro Industries Limited
Weikfield Agro Products, Ltd.
India: Stainless Steel Bar,² A-533-810 | 2/1/04-1/31/05
Chandan Steel Ltd.
Ferro Alloys Corporation, Limited
Isibars Limited
Mukand, Ltd.
Venus Wire Industries Pvt. Limited
India: Forged Stainless Steel Flanges, A-533-809 | 2/1/04-1/31/05
Echjay Forgings
Hilton Forge
Paramount Forge/Ganguly Associates
Viraj Group
Italy: Certain Cut-to-Length Carbon-Quality Steel Plate, A-475-826 | 2/1/04-1/31/05
Palini and Bertoh S.p.A.
Ilva S.p.A.
Metalcam S.p.A.
Riva Fire S.p.A.
Trametal S.p.A.
Republic of Korea: Certain Cut-to-Length Carbon-Quality Steel Plate, A-580-836 | 2/1/04-1/31/05
Dongkuk Steel Mill Co., Ltd.
KISCO—Korea Iron & Steel Co., Ltd.
Union Steel Manufacturing Co.
Republic of Korea: Stainless Steel Butt-Weld Pipe Fittings, A-580-813 | 2/1/04-1/31/05
Sungkwang Bend Co., Ltd.
Malaysia: Stainless Steel Butt-Weld Pipe Fittings, A-557-809 | 2/1/04-1/31/05
Schulz (Mfg.) Sdn. Bhd.
The People's Republic of China: Axes/Adzes,³ A-570-803 | 2/1/04-1/31/05
Changzhou Light Industrial Tools
Iron Bull Industrial Co., Ltd.
Jiangsu Sainty International Group Co., Ltd
aka CMC Jiangsu
aka Jiangsu Machinery Imp. & Exp. Corporation
aka CMC Jiangsu USA
aka Jiangsu Sainty International Group (STIG)
aka Jiangsu Sainty Corporation Ltd.
aka STIG Machinery Import & Export Corp., Ltd.
aka STIG Jaingsu Machinery Import & Export Corp., Ltd.
aka Jiangsu Machinery Import & Export Group Corp.
aka Sainty International Group Jiangsu Machinery Import & Export Corp., Ltd. (SUMEX)
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jafsam Metal Products
aka Jafsam Metal Products (Wuxi)
Laiwu Zhongtie Forging
aka Laiwu Changzhuang Forging Factory
Laoling Pangu Tools
aka Pangu Tools Co., Ltd.
aka Shandong Pangu Tools Co., Ltd.
aka Leiling Pangu Tools
aka Shandong Laoling Tools Factory
Leling Zhengtai Tools Co., Ltd.
aka Laoling Zhengtai Tool Co.
Liaoning Machinery Import and Export Corp. (“LMC”)
LIMAC
Shanghai Xinke Trading Company
Shandong Huarong General Group Corp. (“Huarong”)
Shandong Huarong Machinery Company (“Huarong”)
Shandong Jinma Industrial Group Company (“Jinma”)
Shandong Machinery Import & Export Corp Hangzhou Office
Shandong Machinery Import and Export Corporation (“SMC”)
Shanghai J.E. Tools
Shanxi Tianli
aka Shanxi Tianli Industries Co., Ltd.
Suqian Foreign Trade Corp.
aka Suqian Foreign Trading
Suqian Telee Tools
Tianjin Machinery Imp & Exp Group
Tianjin Machinery Import and Export Corporation (“TMC”)
The People's Republic of China: Bars/Wedges, A-570-803 | 2/1/04-1/31/05
Changzhou Light Industrial Tools
Iron Bull Industrial Co., Ltd.
Jiangsu Sainty International Group Co., Ltd
aka CMC Jiangsu
aka Jiangsu Machinery Imp. & Exp. Corporation
aka CMC Jiangsu USA
aka Jiangsu Sainty International Group (STIG)
aka Jiangsu Machinery Import & Export Corp., Ltd.
aka STIG Jiangsu Machinery Import & Export Corp., Ltd.
aka Jiangsu Machinery Import & Export Group Corp.
aka Sainty International Group Jiangsu Machinery Import & Export Corp., Ltd. (SUMEX)
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jafsam Metal Products
aka Jafsam Metal Products (Wuxi)
Laiwu Zhongtie Forging
aka Laiwu Changzhuang Forging Factory
Laoling Pangu Tools
aka Pangu Tools Co., Ltd.
aka Shandong Pangu Tools Co., Ltd.
aka Leiling Pangu Tools
aka Shandong Laoling Tools Factory
Leling Zhengtai Tool Co., Ltd.
aka Laoling Zhengati Tool Co.
Liaoning Machinery Import and Export Corp. (“LMC”)
LIMAC
Shanghai Xinke Trading Company
Shandong Huarong General Group Corp. (“Huarong”)
Shandong Huarong Machinery Company (“Huarong”)
Shandong Jinma Industrial Group Company (“Jinma”)
Shandong Machinery Import & Export Corp Hangzhou Office
Shandong Machinery Import and Export Corporation (“SMC”)
Shanghai J.E. Tools
Shanxi Tianli
aka Shanxi Tianli Industries Co., Ltd.
Suqian Foreign Trade Corp
aka Suqian Foreign Trading
Suqian Telee Tools
Tianjin Machinery Imp & Exp Group
Tianjin Machinery Import and Export Corporation (“TMC”)
The People's Republic of China: Hammers/Sledges, A-570-803 | 2/1/04-1/31/05
Changzhou Light Industrial Tools
Iron Bull Industrial Co., Ltd.
Jiangsu Sainty International Group Co., Ltd
aka CMC Jiangsu
aka Jiangsu Machinery Imp. & Exp. Corporation
aka CMC Jiangsu USA.
aka Jiangsu Sainty International Group (STIG)
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX)
aka Jiangsu Sainty Honghai Trading Co., Ltd.
aka Jiangsu Sainty Shanghai Co., Ltd.
aka Jiangsu Sainty Changzhou Co., Ltd.
aka STIG Jiangsu Machinery Import & Export Corp. Kunsham Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jafsam Metal Products
aka Jafsam Metal Products (Wuxi)
Laiwu Zhongtie Forging
aka Laiwu Changzhuang Forging Factory
Laoling Pangu Tools
aka Pangu Tools Co., Ltd.
aka Shandong Pangu Tools Co., Ltd.
aka Leiling Pangu Tools
aka Shandong Laoling Tools Factory
Leling Zhengtai Tool Co., Ltd.
aka Laoling Zhengtai Tool Co.
Liaoning Machinery Import and Export Corp. (“LMC”)
LIMAC
Shanghai Xinke Trading Company
Shandong Huarong General Group Corp. (“Huarong”)
Shandong Jinma Industrial Group Company (“Jinma”)
Shandong Machinery Import & Export Corp Hangzhou Office
Shanghai Machinery Import and Export Corporation (“SMC”)
Shanghai J.E. Tools
Shanxi Tianli
aka Shanxi Tianli Industries Co., Ltd.
Suqian Foreign Trade Corp
aka Suqian Foreign Trading
Suqian Telee Tools
Tianjin Machinery Imp & Exp Group
Tianjin Machinery Import and Export Corporation (“TMC”)
The People's Republic of China: Picks/Mattocks, A-570-803 | 2/1/04-1/31/05
Changzhou Light Industrial Tools
Iron Bull Industrial Co., Ltd.
Jiangsu Sainty International Group Co., Ltd.
aka CMC Jiangsu
aka Jiangsu Machinery Imp. & Exp. Corporation
aka CMC Jiangsu USA
aka Jiangsu Sainty International Group (STIG)
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX)
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jafsam Metal Products
aka Jafsam Metal Products (Wuxi)
Laiwu Zhongtie Forging
aka Laiwu Changzhuang Forging Factory
Laoling Pangu Tools
aka Pangu Tools Co., Ltd.
aka Shandong Pangu Tools Co., Ltd.
aka Leiling Pangu Tools
aka Shandong Laoling Tools Factory
Leling Zhengtai Tool Co., Ltd.
aka Laoling Zhengtai Tool Co.
Liaoning Machinery Import and Export Corp. (“LMC”)
LIMAC
Shanghai Xinke Trading Company
Shandong Huarong General Group Corp. (“Huarong”)
Shandong Jinma Industrial Group Company (“Jinma”)
Shandong Machinery Import & Export Corp Hangzhou Office
Shandong Machinery Import and Export Corporation (“SMC”)
Shanghai J.E. Tools
Shanxi Tianli
aka Shanxi Tianli Industries Co., Ltd.
Suqian Foreign Trade Corp.
aka Suqian Foreign Trading
Suqian Telee Tools
Tianjin Machinery Imp & Exp Group
Tianjin Machinery Import and Export Corporation (“TMC”)
The People’s Republic of China: Certain Preserved Mushrooms,⁴ A-570-851 | 2/1/04-1/31/05
Blue Field (Sichuan) Food Industrial Co., Ltd.
China National Cereals, Oils, & Foodstuffs Import & Export Corporation
China Processed Food Import & Export Company
COFCO (Zhangzhou) Food Industrial Co., Ltd.
Fujian Yu Xing Fruits and Vegetables Foodstuffs Co., Ltd.
Fujian Zishan Group Co.
Gerber Food (Yunnan) Co., Ltd.
Green Fresh Foods (Zhangzhou) Co., Ltd.
Guangxi Hengxian Pro-Light Foods, Inc.
Guangxi Yizhou Dongfang Cannery
Guangxi Yulin Oriental Food Co., Ltd.
Inter-Foods D.S. Co., Ltd.
Mei Wei Food Industry Co., Ltd.
Nanning Runchao Industrial Trade Co., Ltd.
Primera Harvest (Xiangfan) Co., Ltd.
Raoping Xingu Foods Co., Ltd.
Raoping Yucun Canned Foods Factory
Shandong Jiufa Edible Fungus Co., Ltd.
Shanghai Superlucky Import & Export Company, Ltd.
Shantou Hongda Industrial General Corporation
Shenxian Dongxing Foods Co., Ltd.
Shenzhen Qunxingyuan Trading Co., Ltd.
Tak Fat Trading Co.
Xianmen International Trade & Industrial Co., Ltd.
Xiamen Jiahua Import & Export Trading Co., Ltd.
Xiamen Zhongjia Imp. & Export Co., Ltd.
Zhangzhou Hongning Canned Food Factory
Zhangzhou Jingxiang Foods Co., Ltd.
Zhangzhou Longhai Lubao Food Co., Ltd.
Zhangzhou Longhai Minhui Industry and Trade Co., Ltd.
Countervailing Duty Proceedings
France: Low Enriched Uranium, C-427-819 | 1/1/04-12/31/04
Eurodif S.A./COGEMA
Germany: Low Enriched Uranium, C-428-821 | 1/1/04-12/31/04
Urenco Deutschland GmbH
Republic of Korea: Certain Cut-to-Length Carbon-Quality Steel Plate, C-580-837 | 1/1/04-12/31/04
Dongkuk Steel Mill Co., Ltd.
The Netherlands: Low Enriched Uranium, C-421-809 | 1/1/04-12/31/04
Urenco Nederland BV
United Kingdom: Low Enriched Uranium, C-412-821 | 1/1/04-12/31/04
Urenco (Capenhurst) Ltd.
Suspension Agreements
None.
¹ A review was requested for Hindustan Lever Limited. However, a 2003 changed circumstances review found that KICM (Madras) Ltd. is the successor-in-interest of Hindustan Lever Limited.
² On February 28, 2005, the Department received requests to conduct an administrative review with respect to Viraj Group. The Department is not initiating a review for Viraj Group because the order for this company was revoked on 09/14/04 (69 FR 55409), with an effective date of 02/01/2003.
³ If the one of the above-named companies does not qualify for a separate rate, all other exporters of Heavy Forged Hand Tools from the People's Republic of China who have not qualified for a separate rate are deemed to be covered by this review as part of the single PRC entity of which the named exporters are a part.
⁴ If one of the above-named companies does not qualify for a specific rate, all other exporters of certain preserved mushrooms from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 16, 2005.
Holly A. Kuga,
Senior Office of Director, Office 4 for Import Administration.

[FR Doc. 05-5782 Filed 3-22-05; 8:45 am]

BILLING CODE 3510-DS-M